DEPARTMENT OF LABOR

Employment and Training Administration

[TA-W-81,919]

Prometric, Inc., a Subsidiary of Educational Testing Service, Including On-Site Leased Workers From Office Team St. Paul, Minnesota; Amended Certification Regarding Eligibility To Apply for Worker Adjustment Assistance

In accordance with Section 223 of the Trade Act of 1974, as amended (“Act”), 19 U.S.C. 273, the Department of Labor issued a Certification of Eligibility to Apply for Worker Adjustment Assistance on October 1, 2012, applicable to workers and former workers of Prometric, Inc., a subsidiary of Educational Test Service, St. Paul, Minnesota (subject firm). The Department's notice of determination was published in the Federal Register on October 19, 2012 (77 FR 64357). The workers were engaged in educational support services. The certification did not include any leased workers.

At the request of a state workforce official, the Department reviewed the certification for workers of the subject firm.

The company reports that workers leased from Office Team were employed on-site at the St. Paul, Minnesota location of the subject firm. The Department has determined that these workers were sufficiently under the control of the subject firm to be considered leased workers.

Based on these findings, the Department is amending this certification to include workers leased from Office Team working on-site at the St. Paul, Minnesota location of Prometric, Inc., a subsidiary of Educational Test Service.

The amended notice applicable to TA-W-81,919 is hereby issued as follows:

All workers of Prometric, Inc., a subsidiary of Educational Test Service, include on-site leased workers of Office Team, St. Paul, Minnesota, who became totally or partially separated from employment on or after August 23, 2011, through October 1, 2014, and all workers in the group threatened with total or partial separation from employment on the date of certification through two years from the date of certification, are eligible to apply for adjustment assistance under Chapter 2 of Title II of the Trade Act of 1974, as amended.

Signed in Washington, DC, this April 22, 2013.
Del Min Amy Chen,
Certifying Officer, Office of Trade Adjustment Assistance.

[FR Doc. 2013-11463 Filed 5-14-13; 8:45 am]

BILLING CODE 4510-FN-P